FEDERAL ELECTION COMMISSION

Sunshine Act Notice

AGENCY: Federal Election Commission.

Federal Register citation of previous announcement—77 FR 10743 (February 23, 2012).

DATE AND TIME: Tuesday, February 28, 2012, at 10 a.m.

PLACE: 999 E Street NW., Washington, DC (Ninth Floor)

STATUS: Meeting will be closed to the public.

Changes in the Meeting—The Commission is also expected to discuss:

Investigatory records compiled for law enforcement purposes, or information which if written would be contained in such records.

Information the premature disclosure of which would be likely to have a considerable adverse effect on the implementation of a proposed Commission action.

* * * * *

PERSON TO CONTACT FOR INFORMATION: Judith Ingram, Press Officer, Telephone: (202) 694-1220.

Shawn Woodhead Werth,
Secretary and Clerk of the Commission.

[FR Doc. 2012-5052 Filed 2-28-12; 11:15 am]

BILLING CODE 6715-01-P